DEPARTMENT OF HEALTH AND HUMAN SERVICES

Centers for Disease Control and Prevention

[60Day-05-05BW]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Survey of Primary Care Physicians Regarding Prostate Cancer Screening—New—National Center for Chronic Disease Prevention and Health Promotion (NCCDPHP), Centers for Disease Control and Prevention (CDC).

Background and Brief Description

Prostate cancer is the most common cancer in men and is the second leading cause of cancer deaths, behind lung cancer, in the United States. The American Cancer Society estimates that there will be about 232,090 new cases of prostate cancer and about 30,350 deaths in 2005. Although prostate cancer deaths have declined over the past several years, it ranks fifth among deaths from all causes.

The Digital Rectal Examination (DRE) and Prostate Specific Antigen (PSA) test are used to screen for prostate cancer. Screening is controversial and many are not in agreement as to whether the potential benefits of screening outweigh the risks, that is, if PSA based screening, early detection, and treatment increases longevity. Although major medical organizations are divided on whether men should be routinely screened for this disease, it appears that all of the major organizations recommend discussion with patients about the benefits and risks of screening.

The purpose of this project is to develop and administer a national survey to a sample of American primary care physicians to examine whether or not they: (1) Screen for prostate cancer using PSA and/or DRE, (2) recommend testing and under what conditions, (3) discuss the tests and the risks and benefits of screening with patients, and (4) use screening practices that vary by factors such as age, ethnicity, and family history of the patient. This study will also examine the demographic, social, and behavioral characteristics of physicians as they relate to screening of similar issues and participate in shared decision-making between the physician and the patient.

There will be no cost to respondents other than their time.

Estimate of Annualized Burden Hours
Respondents | Number of respondents | Number of responses per respondents | Average burden per response (in hours) | Total burden (in hours)
Primary Care Physician | 1,500 | 1 | 40/60 | 1,000
Total | 1,500 |  |  | 1,000

Dated: April 29, 2005.
Joan F. Karr,
Acting Reports Clearance Officer, Centers for Disease Control and Prevention.

[FR Doc. 05-9067 Filed 5-5-05; 8:45 am]

BILLING CODE 4163-18-P